DEPARTMENT OF ENERGY

Federal Energy Regulatory Commission

Combined Notice of Filings # 1

October 12, 2007.

Take notice that the Commission received the following electric corporate filings:

Docket Numbers: EC08-3-000.

Applicants: Fenton Power Partners I, LLC.

Description: Fenton Power Partners I, LLC submits an application for Disposition of Jurisdictional Facilities.

Filed Date: 10/09/2007.

Accession Number: 20071011-0187.

Comment Date: 5 p.m. Eastern Time on Tuesday, October 23, 2007.

Docket Numbers: EC08-4-000.

Applicants: Meridian White Creek, LLC; Lehman White Creek Wind Holdings LLC; Halsey Street Investments LLC; Summit Power WC Wind, LLC; White Creek Wind I, LLC.

Description: White Creek Wind I, LLC, et al submits an application for Disposition of Jurisdictional Facilities.

Filed Date: 10/09/2007.

Accession Number: 20071011-0189.

Comment Date: 5 p.m. Eastern Time on Tuesday, October 23, 2007.

Docket Numbers: EC08-5-000.

Applicants: BBPOP Wind Equity LLC; Babcock & Brown Cedar Creek LLC; Babcock & Brown Wind Partners US LLC.

Description: BBPOPO Wind Equity LLC and Babcock & Brown Cedar Creek, LLC submits an application requesting authorizations for transfers.

Filed Date: 10/09/2007.

Accession Number: 20071011-0191.

Comment Date: 5 p.m. Eastern Time on Tuesday, October 30, 2007.

Take notice that the Commission received the following exempt wholesale generator filings:

Docket Numbers: EG08-1-000.

Applicants: Reliant Energy Mandalay, Inc.

Description: Reliant Energy Mandalay, Inc submits its Notice of Self-Certification of Exempt Wholesale Generator Status.

Filed Date: 10/04/2007.

Accession Number: 20071009-0099.

Comment Date: 5 p.m. Eastern Time on Thursday, October 25, 2007.

Docket Numbers: EG08-3-000.

Applicants: Forked River Power LLC.

Description: Exempt Wholesale Generator Notice of Self Certification of Forked River Power LLC.

Filed Date: 10/09/2007.

Accession Number: 20071009-5017.

Comment Date: 5 p.m. Eastern Time on Tuesday, October 30, 2007.

Take notice that the Commission received the following electric rate filings:

Docket Numbers: ER96-719-018; ER97-2801-019; ER99-2156-012.

Applicants: MidAmerican Energy Company; PacifiCorp; Cordova Energy Company LLC.

Description: PacifiCorp et al submits a letter as Exhibit 1, a substitution page to the 8/27/07 Revised Tariff reflecting the striking of the “Change in Status,” paragraph etc.

Filed Date: 10/09/2007.

Accession Number: 20071011-0030.

Comment Date: 5 p.m. Eastern Time on Tuesday, October 30, 2007.

Docket Numbers: ER96-2585-006.

Applicants: Niagara Mohawk Power Corporation.

Description: National Grid USA submits a compliance filing modifying market-based rate tariffs for Niagara Mohawk Power Corp.

Filed Date: 09/21/2007.

Accession Number: 20070925-0191.

Comment Date: 5 p.m. Eastern Time on Friday, October 19, 2007.

Docket Numbers: ER98-2491-012.

Applicants: ConEdison Energy.

Description: Consolidated Edison Energy, Inc submits amendments to its market based rate tariff.

Filed Date: 10/10/2007.

Accession Number: 20071011-0213.

Comment Date: 5 p.m. Eastern Time on Wednesday, October 31, 2007.

Docket Numbers: ER04-449-016.

Applicants: New York Independent System Operator, Inc.; New York Transmission Owners.

Description: Consensus Deliverability Plan of the New York Independent System Operator, Inc. and the New York Transmission Owners under.

Filed Date: 10/05/2007.

Accession Number: 20071005-5135.

Comment Date: 5 p.m. Eastern Time on Friday, October 26, 2007.

Docket Numbers: ER04-1255-002.

Applicants: New England Power Pool; ISO New England Inc.

Description: ISO New England Inc submits compliance report on the status of the Day-Ahead Load Response Program and on overall efforts to integrate Demand Resources into the energy, reserves and capacity markets in New England.

Filed Date: 08/31/2007.

Accession Number: 20070831-4026.

Comment Date: 5 p.m. Eastern Time on Monday, October 22, 2007.

Docket Numbers: ER06-1346-002.

Applicants: White Creek Wind I, LLC.

Description: White Creek Wind I LLC submits a revised First Revised Sheet 2 of its FERC Electric Tariff, Original Volume 1.

Filed Date: 10/05/2007.

Accession Number: 20071011-0031.

Comment Date: 5 p.m. Eastern Time on Friday, October 26, 2007.

Docket Numbers: ER06-1399-004.

Applicants: Sunbury Generation LP.

Description: Sunbury Generation LP submits a notice of change in status.

Filed Date: 10/09/2007.

Accession Number: 20071011-0206.

Comment Date: 5 p.m. Eastern Time on Tuesday, October 30, 2007.

Docket Numbers: ER06-1474-004.

Applicants: PJM Interconnection, LLC.

Description: PJM Interconnection LLC submits its compliance filing.

Filed Date: 10/09/2007.

Accession Number: 20071011-0205.

Comment Date: 5 p.m. Eastern Time on Tuesday, October 30, 2007.

Docket Numbers: ER07-1142-001.

Applicants: Arizona Public Service Company.

Description: Arizona Public Service Company submits revised sheets to the APS Open Access Transmission Tariff.

Filed Date: 10/09/2007.

Accession Number: 20071011-0208.

Comment Date: 5 p.m. Eastern Time on Tuesday, October 30, 2007.

Docket Numbers: ER07-1171-002.

Applicants: Arizona Public Service Company.

Description: Arizona Public Service Company submits its responses to FERC's requests for information contained in the September 6 Letter.

Filed Date: 10/09/2007.

Accession Number: 20071011-0207.

Comment Date: 5 p.m. Eastern Time on Tuesday, October 30, 2007.

Docket Numbers: ER08-21-000.

Applicants: Pacific Gas and Electric Company.

Description: Pacific Gas and Electric Company submits this compliance filing proposing three rate changes to its Transmission Owner Tariff, FERC Electric Tariff, Sixth Revised Volume 5.

Filed Date: 10/04/2007.

Accession Number: 20071011-0186.

Comment Date: 5 p.m. Eastern Time on Thursday, October 25, 2007.

Docket Numbers: ER08-32-000.

Applicants: Entergy Services, Inc.

Description: Entergy Services Inc, on behalf of, Entergy Arkansas Inc submits its Third Revised Service Agreement 216 and Third Revised and Amended Interconnection and Operating Agreement.

Filed Date: 10/09/2007.

Accession Number: 20071011-0212.

Comment Date: 5 p.m. Eastern Time on Tuesday, October 30, 2007.

Docket Numbers: ER08-33-000.

Applicants: MidAmerican Energy Company.

Description: MidAmerican Energy Company submits a Notice of Cancellation of the Agreement with the City of Breda, Iowa designated as Service Agreement 12 under FERC Electric Tariff Original Volume 7.

Filed Date: 10/09/2007.

Accession Number: 20071011-0211.

Comment Date: 5 p.m. Eastern Time on Tuesday, October 30, 2007.

Docket Numbers: ER08-34-000.

Applicants: MidAmerican Energy Company.

Description: MidAmerican Energy Company submits a Notice of Cancellation of the Agreement with the City of Wall Lake, Iowa designated as Service Agreement 13, FERC Electric Tariff Original Volume 7.

Filed Date: 10/09/2007.

Accession Number: 20071011-0210.

Comment Date: 5 p.m. Eastern Time on Tuesday, October 30, 2007.

Docket Numbers: ER08-35-000.

Applicants: MidAmerican Energy Company.

Description: MidAmerican Energy Company submits an amended Electric Transmission Interconnection Agreement with Corn Belt Power Cooperative dated 9/28/07.

Filed Date: 10/09/2007.

Accession Number: 20071011-0209.

Comment Date: 5 p.m. Eastern Time on Tuesday, October 30, 2007.

Docket Numbers: ER08-36-000.

Applicants: Kansas City Power & Light Company.

Description: Kansas City Power & Light Co submits revisions to its OATT, Secom Revised Volume 3.

Filed Date: 10/09/2007.

Accession Number: 20071011-0196.

Comment Date: 5 p.m. Eastern Time on Tuesday, October 30, 2007.

Docket Numbers: ER08-37-000.

Applicants: Xcel Energy Services, Inc.

Description: Xcel Energy Services Inc agent for Northern States Power Co submits Market Interface Integration Services Agreement with Tantanka Wind Power LLC.

Filed Date: 10/09/2007.

Accession Number: 20071011-0204.

Comment Date: 5 p.m. Eastern Time on Tuesday, October 23, 2007.

Take notice that the Commission received the following electric securities filings:

Docket Numbers: ES08-2-000.

Applicants: Southern Power Company.

Description: Form 523—Request for Permission to Issue Securities of Southern Power Company.

Filed Date: 10/04/2007.

Accession Number: 20071004-5016.

Comment Date: 5 p.m. Eastern Time on Thursday, October 25, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-20622 Filed 10-18-07; 8:45 am]

BILLING CODE 6717-01-P